DEPARTMENT OF AGRICULTURE

Food and Nutrition Service

Agency Information Collection Activities: Proposed Collection; Comment Request—WIC Farmers' Market Nutrition Program (FMNP) Form and Regulations

AGENCY: Food and Nutrition Service (FNS), USDA.

ACTION: Notice.

SUMMARY: In accordance with the Paperwork Reduction Act of 1995, this notice invites the general public and other public agencies to comment on the consolidation of forms FNS-683 (WIC Farmers' Market Nutrition Annual Financial and Program Report) and FNS-203 (WIC Farmers' Market Nutrition Program Report). The proposed consolidation with this renewal will be used to collected information related to WIC Farmers' Market Nutrition Program Financial and Program Data per WIC Farmers' Market Nutrition Program Regulations (7 CFR part 248).

DATES: Written comments must be received by April 1, 2014.

ADDRESSES: Written comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Donna Hines, Chief, Policy Branch, Supplemental Food Programs Division, Food and Nutrition Service, U.S. Department of Agriculture, 3101 Park Center Drive, Room 528, Alexandria, VA 22302. Comments may also be submitted via fax to the attention of Donna Hines at 703-305-2196 or via email to wichq-web@fns.usda.gov. Comments will also be accepted through the Federal eRulemaking Portal. Go to http://www.regulations.gov, and follow the online instructions for submitting comments electronically. In all cases, please label your comments as “Proposed Collection of Information: WIC Farmers' Market Nutrition Program.”

All written comments will be open for public inspection at the office of the Food and Nutrition Service during regular business hours (8:30 a.m., to 5 p.m. Monday through Friday) at 3101 Park Center Drive, Room 520, Alexandria, Virginia 22302.

All responses to this notice will be summarized and included in the request for Office of Management and Budget approval, and will become a matter of public record.

FOR FURTHER INFORMATION CONTACT: Requests for additional information or copies of the information collection forms and instructions should be directed to Donna Hines, Chief, Policy Branch, Supplemental Food Programs Division at 703-305-3746 or Donna.Hines@fns.usda.gov.

SUPPLEMENTARY INFORMATION:

Title: WIC Farmers' Market Nutrition Program (FMNP) Form and Regulations

OMB Number: 0584-0447.

Form Number: Form FNS-683.

Expiration Date: September 30, 2014.

Type of Request: Approval of the newly consolidated FNS 683 Information Collection.

Abstract: Section 17(m)(8) of the Child Nutrition Act of 1966, 42 U.S.C. 1786(m)(8), and the WIC Farmers' Market Nutrition Program (FMNP) regulations at 7 CFR part 248 require that certain Program-related information and financial data be compiled and submitted to FNS and that full and complete records concerning the FMNP operations are maintained. With this renewal, FNS proposes to consolidate forms FNS-683 (WIC Farmers' Market Nutrition Annual Financial and Program Report) and FNS-203 (WIC Farmers' Market Nutrition Program Report). Each State agency administering the FMNP will be required to use the newly consolidated FNS-683 to report financial and participation data. The information gathered is used for funding and program management decisions.

The currently approved reporting and recordkeeping requirements for the FMNP are based on 45 State agencies administering the program. The most recent annual report shows that 46 State agencies administer the FMNP, including the authorization of 3,392 farmers' markets, 18,246 farmers, and 2,969 roadside stands authorized to accept FMNP coupons (for a total of 24,607 authorized entities). However, FNS estimates that one third of authorized farmers or farmers' markets complete an agreement every year, thereby estimating the number of agreements submitted per year at 8,120. This represents an increase in the number of authorized entities from the currently approved reporting and recordkeeping requirements for the FMNP. The increase is due to the addition of one new FMNP State Agency. Therefore, FNS is requesting a revision and the approval of the newly consolidated FNS-683 information collection burden due to an increase in the number of authorized entities submitting farmer's market agreements and authorizations. The total burden is being increased from 23,917 to 24,460 hours.

Affected Public: 46 State Agencies; 8,120 Farmers (Farmers' Market and Roadside Stand).

Estimated Number of Respondents: 8,166.

Estimated Number of Responses per Respondent: 2.34.

Estimated Number of Total Annual Responses: 19,091.

Estimated Time (burden hours) per Respondent: 1.28.

Estimated Total Reporting Burden Hours: 24,138.

Estimated Total Recordkeeping Burden Hours: 322.

Estimated Total Burden for Reporting and Recordkeeping: 24,460.

Information Collection Burden
[WIC Farmer's Market Nutrition Program (FMNP) OMB No. 0584-0447]
Regulation section | Requirement | Estimated No. respondents | Avg. No. responses per respondent | Total annual responses | Hours per response | Annual burden hours | Previously approved burden hours | Reason to adjustment to burden hours
Reporting
Affected Public: STATE & LOCAL AGENCIES (Including Indian Tribal Organizations and US Territories)
248.4 | State Plan | 46 | 1.00 | 46.00 | 40.00 | 1,840.00 | 1,800.00 | Increase in State Agencies from 45 to 46
248.10(a)(2) &(3) | Authorization | 46 | 176.53 | 8,120.31 | 1.00 | 8,120.31 | 7,947.00 |
248.10(e) | Monitoring/Review | 46 | 53.49 | 2,460.70 | 2.00 | 4,921.40 | 4,768.00 | Increase due to authorization of more farmers/markets/farm stands
248.10(f) | Coupon Management System | 46 | 1.00 | 46.00 | 5.00 | 230.00 | 225.00 | Increase in State Agencies from 45 to 46
248.11 | Financial Management System | 46 | 1.00 | 46.00 | 10.00 | 460.00 | 450.00 | Increase in State Agencies from 45 to 46
248.17(b)(2)(ii) | State Agency Corrective Action Plan | 9 | 1.00 | 9.00 | 10.00 | 90.00 | 90.00 |
248.18(b) | Audit Responses | 13 | 1.00 | 13.00 | 15.00 | 195.00 | 195.00 |
248.23(b) | Annual Financial Report FNS-683 | 46 | 1.00 | 46.00 | 3.50 | 161.00 | 135.00 | Increase in State Agencies from 45 to 46 and consolidation of FNS-683 and FNS-203
| Annual Report on Recipients, Farmers, Farmer's Markets, Roadside Stands FNS 203 | 0 | 0.00 | 0.00 | 0.00 | 0.00 | 46.00 | Decrease due to consolidation of FNS-683 and FNS 203
Subtotal (Reporting Requirement) | 46 | 236.02 | 10,787.01 |  | 16,017.71 | 15,656.00 |
Affected Public: Farms (Farmers/Markets/Roadside stands)
248.10(a)(2)(3)&(b) | Farmer's Market Agreement and Authorization (1/3 of 24,607 authorized entities per year for 3 year periods) | 8,120 | 1 | 8,120.31 | 1 | 8,120.31 | 7,947.00 |
Subtotal (Reporting Requirement) |  | 8,120 |  | 8,120.31 |  | 8,120.31 |  |
Total Reporting Requirement | 8,166 |  | 18,907.32 |  | 24,138.02 |  |
Affected Public: STATE & LOCAL AGENCIES (Including Indian Tribal Organizations and US Territories)
Recordkeeping:
248.9 | Nutrition Education | 46 | 1.00 | 46.00 | 1.00 | 46.00 | 45.00 | Increase in State Agencies from 45 to 46
248.10(b) | Farmer/Farmers Market/Roadside Stand Agreement & Authorization | 46 | 1.00 | 46.00 | 2.00 | 92.00 | 90.00 | Increase in State Agencies from 45 to 46
248.10(e) | Summary of Farmer/Farmers' Market/Roadside Stand Monitoring | 46 | 1.00 | 46.00 | 2.00 | 92.00 | 90.00 | Increase in State Agencies from 45 to 46
248.11(c) | Record of Financial Expenditures | 46 | 1.00 | 46.00 | 2.00 | 92.00 | 90.00 | Increase in State Agencies from 45 to 46
Subtotal (Recordkeeping Requirement) | 46 | 4.00 | 184.00 | 1.75 | 322.00 | 315.00 | Increase in State Agencies from 45 to 46
TOTAL BURDEN | 8,166 | 2.33 | 19,091.32 | 1.28 | 24,460.02 |  |

Dated: January 24, 2014.
Audrey Rowe,
Administrator, Food and Nutrition Service.

[FR Doc. 2014-02094 Filed 1-30-14; 8:45 am]

BILLING CODE 3410-30-P